OFFICE OF THE UNITED STATES TRADE REPRESENTATIVE

Special 301 Out-of-Cycle Review of Taiwan: Request for Public Comment

AGENCY: Office of the United States Trade Representative.

ACTION: Request for written submissions from the public.

SUMMARY: Section 182 of the Trade Act of 1974 (Trade Act) (19 U.S.C. 2242), requires the United States Trade Representative (USTR) to identify trading partners that deny adequate and effective protection of intellectual property rights or deny fair and equitable market access to U.S. persons who rely on intellectual property protection. (Section 182 is commonly referred to as the “Special 301” provisions of the Trade Act.) In addition, the USTR is required to determine which of these trading partners should be identified as Priority Foreign Countries. Acts, policies or practices that are the basis of a trading partner's identification as a Priority Foreign Country are normally the subject of an investigation under the Section 301 provisions of the Trade Act.

On April 25, 2008, USTR announced the results of the 2008 Special 301 Review and stated that an Out-of-Cycle Review of Taiwan would be conducted this year. Pursuant to this Out-of-Cycle Review, USTR requests written submissions from the public concerning acts, policies, and practices regarding the adequacy and effectiveness of intellectual property protection and enforcement in Taiwan.

DATES: Submissions must be received on or before 10 a.m. on Monday, September 8, 2008.

ADDRESSES: All comments should be addressed to Jennifer Choe Groves, Director for Intellectual Property and Innovation and Chair of the Special 301 Committee, Office of the United States Trade Representative, and sent (i) electronically, to FR0606@ustr.eop.gov (please note, “FR0606” consists of the numbers “zero-six-zero-six,”) with “Taiwan Out-of-Cycle Review” in the subject line, or (ii) by fax, to (202) 395-9458, with a confirmation copy sent electronically to the email address above.

FOR FURTHER INFORMATION CONTACT: Jennifer Choe Groves, Director for Intellectual Property and Innovation and Chair of the Special 301 Committee, Office of the United States Trade Representative at (202) 395-4510.

SUPPLEMENTARY INFORMATION: Pursuant to Section 182 of the Trade Act, USTR must identify those trading partners that deny adequate and effective protection for intellectual property rights or deny fair and equitable market access to U.S. persons who rely on intellectual property protection. Those trading partners that have the most onerous or egregious acts, policies, or practices and whose acts, policies or practices have the greatest adverse impact (actual or potential) on relevant U.S. products are to be identified as Priority Foreign Countries. Acts, policies or practices that are the basis of a trading partner's designation as a Priority Foreign Country are normally the subject of an investigation under the Section 301 provisions of the Trade Act.

USTR may not identify a trading partner as a Priority Foreign Country if it is entering into good faith negotiations, or making significant progress in bilateral or multilateral negotiations, to provide adequate and effective protection of intellectual property rights.

On April 25, 2008, USTR announced the results of the 2008 Special 301 Review and stated that an Out-of-Cycle Review of Taiwan would be conducted this year. Pursuant to this Out-of-Cycle Review, USTR requests written submissions from the public concerning acts, policies, and practices regarding the adequacy and effectiveness of intellectual property protection and enforcement in Taiwan.

Requirements for comments: Comments should include a description of experiences with respect to Taiwan in the field of intellectual property rights and the effect of the acts, policies, and practices of Taiwan on U.S. industry. Comments should be as detailed as possible and should provide all necessary information for assessing the effect of any acts, policies, and practices of Taiwan. Any comments that include quantitative loss claims should be accompanied by the methodology used in calculating such estimated losses.

Comments must be in English. No submissions will be accepted via postal service mail. Documents should be submitted as either WordPerfect, MS Word, Adobe, or Text files. Supporting documentation submitted as spreadsheets are acceptable as Quattro Pro or Excel files. All comments and supporting documentation received by USTR will be made available to the public through electronic or other means. A submitter requesting that information contained in a comment be treated as confidential business information must certify that such information is business confidential and would not customarily be released to the public by the submitter. A non-confidential version of the comment must also be provided. For any document containing business confidential information, the file name of the business confidential version should begin with the characters “BC-”, and the file name of the public version should begin with the character “P-”. The “P-” or “BC-” should be followed by the name of the submitter. Submissions should not include separate cover letters; information that might appear in a cover letter should be included in the submission itself. To the extent possible, any attachments to the submission should be included in the same file as the submission itself, and not as separate files.

Dates: Submissions must be received on or before 10 a.m. on Monday, September 8, 2008.

All comments should be addressed to Jennifer Choe Groves, Director for Intellectual Property and Innovation and Chair of the Special 301 Committee, Office of the United States Trade Representative, and sent (i) electronically, to FR0606@ustr.eop.gov (please note, “FR0606” consists of the numbers “zero-six-zero-six,”) with “Taiwan Out-of-Cycle Review” in the subject line, or (ii) by fax, to (202) 395-9458, with a confirmation copy sent electronically to the email address above.

Public inspection of submissions: (1) Within one business day of receipt, non-confidential submissions will be placed in a public file open for inspection at the USTR reading room, Office of the United States Trade Representative, Annex Building, 1724 F Street, NW., Room 1, Washington, DC. An appointment to review the file must be scheduled at least 48 hours in advance and may be made by calling Jacqueline Caldwell at (202) 395-6186. The USTR reading room is open to the public from 10 a.m. to noon and from 1 p.m. to 4 p.m., Monday through Friday.

Stanford K. McCoy,
Assistant U.S. Trade Representative for Intellectual Property and Innovation.

[FR Doc. E8-16636 Filed 7-18-08; 8:45 am]

BILLING CODE 3190-W8-P